DEPARTMENT OF THE TREASURY

Agency Information Collection Activities; Submission for OMB Review; Comment Request; Multiple Internal Revenue Service (IRS) Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before September 30, 2022 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

1. Title: Recapture of Investment Credit.

OMB Number: 1545-0166.

Form Number: 4255.

Abstract: Internal Revenue Code section 50(a) requires that a taxpayer's income tax be increased by the investment credit recapture tax if the taxpayer disposes of investment credit property before the close of the recapture period used in figuring the original investment credit. Form 4255 provides for the computation of the recapture tax.

Type of Review: Extension of a currently approved collection.

Affected Public: Business or other for-profit organizations, individuals, and farms.

Estimated Number of Respondents: 1,320.

Estimated Time per Respondent: 9 hours, 49 minutes.

Estimated Total Annual Burden Hours: 12,949 hours.

2. Title: Tax on Accumulation Distribution of Trusts.

OMB Number: 1545-0192.

Form Number: Form 4970.

Abstract: Internal Revenue Code 667 requires a tax to be paid by a beneficiary of domestic or foreign trust on accumulation distributions. Form 4970 is used to compute the tax adjustment attributable to an accumulation distribution and to verify whether the correct tax has been paid on the accumulation distribution.

Type of Review: Extension of a currently approved collection.

Affected Public: Individuals or households.

Estimated Number of Respondents: 30,000.

Estimated Time per Respondent: 1 hr., 25 min.

Estimated Total Annual Burden Hours: 42,900.

3. Title: Low-Income Housing Credit.

OMB Number: 1545-0984.

Form Number: 8586.

Abstract: Internal Revenue Code section 42 permits owners of residential rental projects providing low-income housing to claim a tax credit for part of the cost of constructing or rehabilitating such low-income housing. Form 8586 is used by taxpayers to compute the credit and by the IRS to verify that the correct credit has been claimed.

Type of Review: Extension of a currently approved collection.

Affected Public: Individuals or households, and businesses, or other for-profit organizations.

Estimated Number of Respondents: 779.

Estimated Time per Respondent: 8 hrs., 48 min.

Estimated Total Annual Burden Hours: 6,855.

4. Title: Change of Address or Change of Address or Responsible Party—Business.

OMB Number: 1545-1163.

Form Numbers: 8822 and 8822-B.

Abstract: Form 8822 is used by taxpayers to notify the Internal Revenue Service that they have changed their home or business address or business location. Form 8822-B is used to notify the Internal Revenue Service of a change in a business mailing address, business location, or the identity of a responsible party.

Type of Review: Extension of a currently approved collection.

Affected Public: Individuals or households, business or other for-profit organizations, not-for-profit institutions, farms, and Federal, state, local or tribal governments.

Estimated Number of Respondents: 1,000,000.

Estimated Time per Respondent: 13 minutes.

Estimated Total Annual Burden Hours: 222,942 hours.

5. Title: Commercial Revitalization Deduction.

OMB Number: 1545-1818.

Form Number: 2003-38.

Abstract: Pursuant to § 1400I of the Internal Revenue Code, Revenue Procedure 2003-38 provides the time and manner for states to make allocations of commercial revitalization expenditures to a new or substantially rehabilitated building that is placed in service in a renewal community.

Type of Review: Extension of a currently approved collection.

Affected Public: State, local and tribal governments, and business or other for-profit organizations.

Estimated Number of Respondents: 80.

Estimated Time per Respondent: 2 hours, 30 minutes.

Estimated Total Annual Burden Hours: 200.

6. Title: Return by a Shareholder Making Certain Late Elections To End Treatment as a Passive Foreign Investment Company.

OMB Number: 1545-1950.

Form Number: 8621-A.

Abstract: Form 8621-A is necessary for certain taxpayers/shareholders who are investors in passive foreign investment companies (PFIC's) to request late deemed sale or late deemed dividend elections (late purging elections) under Reg. 1.1298-3(e). The form provides a taxpayer/shareholder the opportunity to fulfill the requirements of the regulation in making the election by asserting the following: (i) The election is being made before an IRS agent has raised on audit the PFIC status of the foreign corporation for any taxable year of the taxpayer/shareholder; (ii) the taxpayer/shareholder is agreeing (by submitting Form 8621-A) to eliminate any prejudice to the interests of the U.S. government on account of the taxpayer/shareholder's inability to make timely purging elections; and (iii) the taxpayer/shareholder shows as a balance due on Form 8621-A an amount reflecting tax plus interest as determined under Reg. 1.1298(e)(3).

Type of Review: Extension of a currently approved collection.

Affected Public: Individuals and households, businesses and other for-profit organizations.

Estimated Number of Respondents: 1.

Estimated Time per Respondent: 78 hours, 30 minutes.

Estimated Total Annual Burden Hours: 79 hours.

7. Title: Contributions of Motor Vehicles, Boats, and Airplanes.

OMB Number: 1545-1959.

Form Number: Form 1098-C.

Abstract: Section 884 of the American Jobs Creation Act of 2004 (Pub. L. 108-357) added paragraph 12 to section 170(f) for contributions of used motor vehicles, boats, and airplanes. Section 170(f)(12) requires that a donee organization provide an acknowledgement to the donor of this type of property and is required to file the same information to the Internal Revenue Service.

Form 1098-C is used to report charitable contributions of motor vehicles, boats, and airplanes after December 31, 2004.

Type of Review: Revision of a currently approved collection.

Affected Public: Businesses or other for-profits, Individuals or households, Farms, or Not-for-profit institutions.

Estimated Number of Respondents: 110,400.

Estimated Time per Respondent: 18 min.

Estimated Total Annual Burden Hours: 34,224.

8. Title: Profit or Loss From Farming.

OMB Number: 1545-1975.

Form Number: Schedule F (Form 1040).

Abstract: Schedule F, (Form 1040) is used by individuals, estate or trust to report their farm income or loss and expenses. The data is used to verify that the items reported on the form are correct and also for general statistical use.

Type of Review: Extension of a currently approved collection.

Affected Public: Businesses and other for-profit organizations, Farming.

Estimated Number of Respondents: 26,546.

Estimated Time per Respondent: 19 hours.

Estimated Total Annual Burden Hours: 504,374.

9. Title: Form 14039, Identity Theft Affidavit, Form 14039 (SP), Declaracion Jurada sobre el Robo de Identidad, Form 14039-B, Business Identity Theft Affidavit and Form 14039-B (SP), Declaracion Jurada sobre el Robo de Identidad de un Negocio.

OMB Number: 1545-2139.

Form Numbers: 14039, 14039 (SP), 14039-B and 14039-B (SP).

Abstract: The primary purpose of these forms is to provide a method of reporting identity theft issues to the IRS so that the IRS may document situations where individuals or businesses are or may be victims of identity theft. Additional purposes include the use in the determination of proper tax liability and to relieve taxpayer burden. The information may be disclosed only as provided by 26 U.S.C. 6103.

Type of Review: Extension of a currently approved collection.

Affected Public: Individuals or households, business or other for-profit organizations and not-for-profit institutions. Forms 14039 and 14039 (SP).

Estimated Number of Respondents: 382,433.

Estimated Time per Respondent: 1 hour 20 minutes.

Estimated Total Annual Burden Hours: 508,636. Forms 14039-B and 14039-B (SP).

Estimated Number of Respondents: 20,000.

Estimated Time per Respondent: 18 minutes.

Estimated Total Annual Burden Hours: 6,200.

Title: Notice of Medical Necessity Criteria under the Mental Health Parity and Addiction Equity Act of 2008.

10. OMB Number: 1545-2165.

Abstract: This document contains previously approved final rules implementing the Paul Wellstone and Pete Domenici Mental Health Parity and Addiction Equity Act (MHPAEA) of 2008, which requires parity between mental health or substance use disorder benefits and medical/surgical benefits with respect to financial requirements and treatment limitations under group health plans and group and individual health insurance coverage.

Type of Review: Revision of a currently approved collection.

Affected Public: Business or other for-profit organizations, individuals or households, and not for profit institutions.

Estimated Number of Respondents: 1,413,420.

Estimated Time per Response: 2.1557.

Estimated Total Annual Burden Hours: 3,046,961.

11. Title: Request for Annual Registration Statement Identifying Separated Participants with Deferred Vested Benefits.

OMB Number: 1545-2187.

Form Number: 8955-SSA.

Abstract: Form 8955-SSA, the designated successor to Schedule SSA (Form 5500), is used to satisfy the reporting requirements of Internal Revenue Code section 6057(a). Plan administrators of employee benefit plans subject to the vesting standards of ERISA section 203 use the form to report information about separated participants with deferred vested benefits under the plan. The information is generally given to the Social Security Administration (SSA), which provides the reported information to separated participants when they file for social security benefits.

Type of Review: Extension of a currently approved collection.

Affected Public: Businesses and other for-profit organizations.

Estimated Number of Respondents: 200,000.

Estimated Time per Respondent: 50 minutes.

Estimated Total Annual Burden Hours: 166,000 hours.

12. Title: Guidance Regarding the Transition Tax Under Section 965 and Related Provisions.

OMB Number: 1545-2280.

Form Number: TD 9846.

Abstract: The Tax Cuts and Jobs Act, Section 14103 (Pub. L. 115-97), provide for reconciliation pursuant to titles II and V of the concurrent resolution on the budget for fiscal year 2018, amended section 965 of the Internal Revenue Code. Because of the amendment, certain taxpayers are required to include in income an amount based on the accumulated post-1986 deferred foreign income of certain corporations that they own either directly or indirectly through other entities. This collection covers the guidance regarding the transition tax under section 965. The regulations affect United States persons with direct or indirect ownership interests in certain foreign corporations.

Type of Review: Extension of a currently approved collection.

Affected Public: Business or other for-profit organizations, Individuals, or households.

Estimated Number of Respondents: 100,000.

Estimated Time per Respondent: 5 hrs.

Estimated Total Annual Burden Hours: 500,000.

(Authority: 44 U.S.C. 3501 et seq.)

Melody Braswell,
Treasury PRA Clearance Officer.

[FR Doc. 2022-18748 Filed 8-30-22; 8:45 am]

BILLING CODE 4830-01-P